DEPARTMENT OF COMMERCE

Foreign-Trade Zones Board

[B-8-2022]

Foreign-Trade Zone (FTZ) 43—Battle Creek, Michigan; Notification of Proposed Production Activity; Pfizer, Inc. (Lipid Active Pharmaceutical Ingredients), Kalamazoo, Michigan

Pfizer, Inc. (Pfizer) submitted a notification of proposed production activity to the FTZ Board (the Board) for its facility in Kalamazoo, Michigan within Subzone 43E. The notification conforming to the requirements of the Board's regulations (15 CFR 400.22) was received on March 11, 2022.

Pursuant to 15 CFR 400.14(b), FTZ production activity would be limited to the specific foreign-status materials/components and specific finished products described in the submitted notification (summarized below) and subsequently authorized by the Board. The benefits that may stem from conducting production activity under FTZ procedures are explained in the background section of the Board's website—accessible via www.trade.gov/ftz. The proposed finished products and materials/components would be added to the production authority that the Board previously approved for the operation, as reflected on the Board's website.

The proposed finished products include active pharmaceutical ingredients for Pfizer's COVID-19 vaccine—Lipid ALC-0159 K Finished and Lipid ALC-0315 Crude (duty rate is 3.7% or 6.5%).

The proposed foreign-status materials and components include: Methoxy Polyethylene Glycol (MPEG) Acid; Enzyme CDX-616; Registered Starter Chemical PF-07321332; 2,2,6,6-Tetramethylpiperidine-1-Oxyl; 1-Propanephosphonic Acid Cyclic Andydrid; 4-Amino-1-Butanol; Tetamine NS Succinate Salt; and, 2-Hexyldecanoic Acid (duty rate ranges from duty free to 6.5%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is May 2, 2022.

A copy of the notification will be available for public inspection in the “Online FTZ Information System” section of the Board's website.

For further information, contact Diane Finver at Diane.Finver@trade.gov.

Dated: March 15, 2022.
Andrew McGilvray,
Executive Secretary.

[FR Doc. 2022-05810 Filed 3-18-22; 8:45 am]

BILLING CODE 3510-DS-P